DEPARTMENT OF THE INTERIOR

Bureau of Land Management

[CA-650-01-1220-JG-064B]

Notice of a Firearm Shooting Restriction on Public Lands Within the Red Mountain Polygon, San Bernardino County, CA

AGENCY: Bureau of Land Management, Department of the Interior.

ACTION: Firearm shooting restriction on public lands within the Red Mountain Polygon, San Bernardino County, California.

SUMMARY: Notice is hereby given that a firearm shooting restriction in the Red Mountain Polygon, located in the northwestern portion of San Bernardino County, California, is in effect as of January 16, 2002. The Red Mountain Polygon is comprised of approximately 98,043 acres of public lands in the California Desert Conservation Area, and is located within the western Mojave Desert area of northwestern San Bernardino County, California. Specifically, the firearm shooting restriction requires that all target shooting conducted on public lands within the Red Mountain Polygon be directed at paper targets created specifically for such purpose. The use of firearms for hunting administered by the California Fish and Game Commission is not affected by this firearm shooting restriction. This restriction will remain in effect until amendments to the California Desert Conservation Area Plan are finalized which is expected to occur in 2003.

EFFECTIVE DATE: January 16, 2002.

FOR FURTHER INFORMATION CONTACT: Field Office Manager, Bureau of Land Management, Ridgecrest Field Office, 300 South Richmond Road, Ridgecrest CA 93555, (760) 384-5405.

SUPPLEMENTARY INFORMATION: The Bureau of Land Management, Ridgecrest Field Office, has analyzed the effects of the firearm shooting restriction in an environmental assessment entitled “Environmental Assessment for Interim Closure of Selected Vehicle Routes and a Firearm Shooting restriction in the Red Mountain Polygon, California Desert Conservation Area, dated October 18, 2001, and a supplement to this assessment dated January 14, 2002.

On March 16, 2000, the Center for Biological Diversity, et al (Center) filed for injunctive relief in U.S. District Court, Northern District of California (Court) against the Bureau of Land Management. The Center alleged the Bureau of Land Management was in violation of Section 7 of the Endangered Species Act by failing to enter into formal consultation with the Fish and Wildlife Service on the effects of adoption of the California Desert Conservation Area Plan, as amended, upon threatened and endangered species. Instead of litigating the case, and facing a possible injunction of all authorized desert activities, the Bureau of Land Management entered into five stipulated agreements, including the stipulation which includes the firearm shooting restriction.

The authority for proposing a firearm shooting restriction is derived from 43 CFR 8364 (Closures and Restrictions). This regulation allows the authorized officer to issue an order to close or restrict use of designated public lands in order to protect persons, property, and public lands and resources. In this case, the shooting restriction will aid in protecting the desert tortoise from indiscriminate firearm use, and stop the practice of shooting at objects that result in the accumulation of trash, broken glass, cans, electronic parts, propane gas cylinders, metal, etc. in critical habitat for the desert tortoise. Furthermore, the restriction will aid in reducing the incidence of wildfire that could result from bullets striking rocks and generating sparks in combustible materials.

Although the desert tortoise has been fully protected in California since 1961 through regulation of the California Fish and Game Commission, remains of tortoises containing gunshot holes have been observed in numerous areas of the California Desert. From 1972 to 1982, a study of tortoise gunshot mortality was conducted on 11 sites in the California Desert. The highest incidence of gunshot holes in carcasses of desert tortoises occurred in the western Mojave Desert at the Fremont Valley site, the Desert Tortoise Natural Area, and the Fremont Peak site (located at the southern boundary of the Red Mountain Polygon). The percent of tortoises dying on the study sites due to gunshots were 28.9 % at Fremont Valley, 19.6% at the Desert Tortoise Natural Area, and 16.7% at the Fremont Peak. In contrast, the incidence of such deaths in the eastern Mojave Desert sites ranged from 1.8 to 3.1 %. California Department of Fish and Game wardens reported that they occasionally found tortoises dead from gunshots near roads in eastern Kern and northwestern San Bernardino Counties during the 1960s and 1970s. Between 1981 and 1984, Bureau of Land Management and other observers found the remains of 10 tortoises shot and killed in the western Mojave Desert in the vicinity of the Desert Tortoise Natural Area, El Paso Mountains, Fremont Peak and Stoddard Valley. Higher incidence of gunshot deaths of tortoises in the western Mojave was attributed to the higher numbers of human visitors, greater vehicular access and closer proximity to urban centers. Target practice in the California Desert, especially in portions of the western Mojave Desert, is associated with human-caused wildfire from bullets striking rocks, and people shooting at tortoises for target practice. In the Recovery Plan for the Mojave Population of the Desert Tortoise, the U.S. Fish and Wildlife Service reported that shooting and vandalism play a major role in losses of desert tortoises in many areas, particularly where human visitation is high. They also reported that approximately 15 to 29 percent of carcasses of desert tortoises studied on Bureau of Land Management study plots in the western Mojave Desert had evidence of gunshot.

This firearm shooting restriction will enable the Bureau of Land Management to comply with Section 7(a)(1) of the Endangered Species Act using its full authorities to conserve endangered species and threatened species.

This interim firearm shooting restriction will allow BLM to properly evaluate and arrive at a final decision on environmentally acceptable firearm use throughout the West Mojave Planning Area, which will result in amendments to the California Desert Conservation Area Plan, expected to be completed in 2003. This planning process now underway is a formal plan amendment process that involves the public and will conform to the requirements of the National Environmental Policy Act. Maps showing the affected area are available by contacting the Ridgecrest Field Office of the Bureau of Land Management at the address shown above.

Appeal Rights

The decision that instituted this firearm shooting restriction may be appealed to the Interior Board of Land Appeals, Office of the Secretary, in accordance with the regulations contained in 43 CFR part 4 and the enclosed Form 1842-1. If an appeal is taken, a notice of appeal must be filed in this office (at the above address) within 30 days from receipt of this decision. The appellant has the burden of showing that the decision appealed from is in error.

Those wishing to file a petition pursuant to regulation 43 CFR 4.21 (58 FR 4939, January 19, 1993) or 43 CFR 2804.1 for a stay of the effect of this decision during the time that an appeal is being reviewed by the Board must request a stay in the notice of appeal. A petition for a stay is required to show sufficient justification based on the standards listed below. Copies of the notice of appeal and petition for a stay must also be submitted to each identified party, to the Interior Board of Land Appeals, and to the appropriate Office of the Solicitor (see 43 CFR 4.413) at the same time the original documents are filed with this office. If you request a stay, you have the burden of proof to demonstrate that a stay should be granted.

Standards for Obtaining a Stay

Except as otherwise provided by law or other pertinent regulation, a petition for a stay of a decision pending appeal shall show sufficient justification based on the following standards:

(1) The relative harm to the parties if the stay is granted or denied,

(2) The likelihood of the appellant's success on the merits,

(3) The likelihood of immediate and irreparable harm if the stay is not granted, and

(4) Whether the public interest favors granting the stay.

Dated: January 18, 2002.
Hector A. Villalobos,
Field Office Manager.

[FR Doc. 02-11083 Filed 5-3-02; 8:45 am]

BILLING CODE 4310-40-P